ENVIRONMENTAL PROTECTION AGENCY

[EPA-HQ-OPP-2007-0409; FRL-8150-3]

The Association of American Pesticide Control Officials (AAPCO)/State FIFRA Issues Research and Evaluation Group (SFIREG) Working Committee on Water Quality/Pesticide Disposal (WC/WQPD); Notice of Public Meeting

AGENCY: Environmental Protection Agency (EPA).

ACTION: Notice.

SUMMARY: The Association of American Pesticide Control Officials (AAPCO)/State FIFRA Issues Research and Evaluation Group (SFIREG) Working Committee on Working Committee on Water Quality & Pesticide Disposal (WC/WQ/PD) will hold a 2-day meeting, beginning on October 29, 2007 and ending October 30, 2007. This notice announces the location and times for the meeting and sets forth the tentative agenda topics.

DATES: The meeting will be held on October 29, 2007 from 8:30 a.m. to 5 p.m. and 8:30 a.m. to 12 noon on October 30, 2007.

To request accommodation of a disability, please contact the person listed under FOR FURTHER INFORMATON CONTACT, preferably at least 10 days prior to the meeting, to give EPA as much time as possible to process your request.

ADDRESSES: The meeting will be held at EPA, 2777 Crystal Dr., One Potomac Yard South, 4th Floor South Conference Center, Arlington, VA 22202.

FOR FURTHER INFORMATION CONTACT: Georgia McDuffie, Field and External Affairs Division, (7506P), Office of Pesticide Programs, Environmental Protection Agency, 1200 Pennsylvania Ave., NW., Washington, DC 20460-0001; telephone number: (703) 605-0195; fax number: (703) 308-1850; e-mail address: mcduffie.georgia@epa.gov or Grier Stayton, Executive Secretary, P.O. Box 466 Milford, DE 19963; telephone number: (302) 422-8152; fax: (302) 422-2435; email: "grier stayton"aapco-sfireg@comcast.net.

SUPPLEMENTARY INFORMATION:

I. General Information

A. Does this Action Apply to Me?

You may be potentially affected by this action if you are interested in SFIREG information exchange relationship with EPA regarding important issues related to human health, environmental exposure to pesticides, and insight into EPA's decision-making process are invited and encouraged to attend the meetings and participate as appropriate. ” Potentially affected entities may include, but are not limited to: Those persons who are or may be required to conduct testing of chemical substances under the Federal Food, Drug and Cosmetic Act (FFDCA), or the Federal Insecticide, Fungicide, and Rodenticide Act (FIFRA).

B. How Can I Get Copies of this Document and Other Related Information?

1. Docket. EPA has established a docket for this action under docket identification (ID) number EPA-HQ-OPPT-2007-0409 Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Tentative Agenda

1. Buffers to Protect Surface Water

2. OPP Surface Water and Ground Water Benchmarks

3. USGS Water Quality Pesticide Projects

4. Container Recycling

5. Endangered Species: Water Quality Issues

6. Performance Measures, “Pesticides of Interest” List, On-line Reporting

7. SFIREG WQ/PD State Reporting and Participation

8. Exposure Modeling Public Meeting: Activities Report

9. SFIREG Disposal White Paper and EPA Follow-up

10. Pesticide Degradate Information Tracking

11. AAPCO/SFIREG & ASIWPCA Benchmarks Project

12. Inert Ingredient WQ impacts: Nonylpheonol Exthoxylates

13. Ground Water Advisory Statement & Label Review Manual, Chapter 8

14. Atrazine: Post-IRED OPP Activities Update

15. Office Water Atrazine Implementation Workplan - Region 5

16. EPA Update/Briefing:

a. Office of Pesticide Programs Update

b. Office of Enforcement Compliance Assurance Update

List of Subjects

Environmental protection.

Dated: September 26, 2007.
William R. Diamond,
Director, Field External Affairs Division, Office of Pesticide Programs

[FR Doc. E7-19655 Filed 10-9-07; 8:45 am]

BILLING CODE 6560-50-S